EXPORT-IMPORT BANK OF THE UNITED STATES

[Public Notice 41]

Agency Information Collection Activities; Proposed Collection; Common Request

AGENCY: Export-Import Bank of the United States (Ex-Im Bank).

ACTION: Notice and request for comments.

SUMMARY: Ex-Im Bank as a part of its continuing effort to reduce paperwork and respondent burden, invites the general public and other Federal agencies to take this opportunity to comment on the proposed information collection, as required by the Paperwork Reduction Act of 1995.

DATES: Written comments should be received on or before August 28, 2000 to be assured of consideration.

ADDRESSES: Direct all written comments and requests for additional information to Carlista Robinson, 811 Vermont Avenue, N.W., Room 764, Washington, D.C. 20571, (202) 565-3351.

SUPPLEMENTARY INFORMATION: Title: U.S. Small Business Administration, Export-Import Bank of the United States, Joint Application for Working Capital Guarantee.

OMB Number: 3048-0003.

Form Number: EIB-SBA 84-1 (Rev. 8/2000).

Type of Review: Revision.

Abstract: The proposed form is to be used by commercial banks and other lenders as well as U.S. Exporters in applying for guarantees on working capital loans advanced by the lenders to U.S. exporters.

Frequency of use: Upon application for guarantees on working capital loans advanced by the lenders to U.S. exporters.

Respondents: Commercial banks and other lenders, as well as U.S. exporters throughout the United States.

Estimated total number of annual responses: 600.

Estimated time per respondent: 2 hours.

Estimated total number of hours needed to fill out the form: 1200.

Request for comment: Comments are invited on: (a) Whether the collection of information is necessary for the proper performance of the functions of the agency, including whether the information shall have practical utility; (b) the accuracy of the agency's estimate of the burden of the collection of information; (c) ways to enhance the quality, utility, and clarity of the information to be collected; and (d) ways to minimize the burden of the collection of information on respondents, including through the use of automated collection techniques or other forms of information technology.

Dated: June 26, 2000.
Carlista D. Robinson,
Agency Clearance Officer.

[FR Doc. 00-16590 Filed 6-29-00; 8:45 am]

BILLING CODE 6690-01-M